DEPARTMENT OF HEALTH AND HUMAN SERVICES

Centers for Disease Control and Prevention

[Program Announcement 01076]

Notice of Availability of Funds; Programs for the Prevention of Fire Related Injuries

A. Purpose

The Centers for Disease Control and Prevention (CDC) announces the availability of fiscal year (FY) 2001 funds for a cooperative agreement for unintentional injury intervention programs to prevent fire-related injuries. CDC is committed to achieving the health promotion and disease prevention objectives of “Healthy People 2010,” a national activity to reduce morbidity and mortality and improve the quality of life. This announcement is related to the focus area of Injury and Violence Prevention. For the conference copy of “Healthy People 2010”, visit the internet site: http://www.health.gov/healthypeople. The purpose of this cooperative agreement is to reduce the number of residential fire-related injuries and fatalities in high risk communities.

B. Eligible Applicants

Assistance will be provided only to the official public health departments of States or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau.

Applicants funded under Program Announcement 98054 are eligible to apply under this Announcement as a competing continuation applicant. The proposed target areas for this Announcement must be different than those currently being funded by CDC.

Note: 2 U.S.C. section 1611 states that an organization described in section 501(c)(4) of the Internal Revenue Code of 1986 that engages in lobbying activities is not eligible to receive Federal funds constituting an award, grant, cooperative agreement, contract, loan, or any other form.

C. Availability of Funds

Approximately $1,900,000 is available in FY 2001 to fund approximately 14 awards, ranging from $135,000 to $160,000. It is expected that the awards will begin on or about September 30, 2001, and will be made for a 12-month budget period within a project period of up to 5 years. Funding estimates may change.

Continuation awards within an approved project period will be made on the basis of satisfactory progress and review of outcomes as evidenced by required reports and the availability of funds.

D. Program Requirements

In conducting the activities to achieve the purpose of this program, the recipient will be responsible for the activities under 1 (Recipient Activities), and CDC will be responsible for the activities under 2 (CDC Activities).

1. Recipient Activities

(a) Through a competitive process, solicit participation from a minimum of two different communities each year that have the capacity and willingness to conduct smoke alarm installation combined with fire-safety education and evaluation programs. Each community should have a population of 50,000 or less and should demonstrate fire mortality and fire incidence rates above the State and National averages and mean household income below the poverty line.

(b) Provide program oversight to each program selected. Identify coordinators at the state and local levels to oversee the program.

(c) Collaborate with, as a minimum, local health departments, fire departments (both paid and volunteer), community based organizations and the private sector at the local level.

(d) Facilitate the acquisition, distribution and installation of 10-year, lithium-powered smoke alarms in targeted communities through collaboration with fire-safety personnel and/or community workers.

(e) Ensure personnel conducting installation and education activities are trained in fire-safety education, proper installation and placement of smoke alarms.

(f) Develop an evaluation plan that will allow progress toward program goals and objectives to be assessed and outcomes of the program to be measured such as a comparison of pre- and post-intervention residential fire incidence, injuries, and deaths in intervention communities. Evaluation plan should include, as a minimum, follow-up assessment in each intervention community to determine the continued presence and functionality of program-installed smoke alarms.

(g) Ensure written materials that are routinely provided in English to clients, and the public, are available in regularly encountered languages other than English where the Limited English Proficiency language group constitutes ten percent (10%) or 3,000, whichever is less, of the population of persons eligible to be served or affected by the program.

(h) Compile and disseminate the results of the project.

2. CDC Activities

(a) Provide technical consultation and advice on all aspects of recipient activities.

(b) Provide up-to-date scientific information about fire-related injuries and prevention methods.

(c) Establish communication mechanisms by facilitating the transfer of technical and programmatic information across similarly funded programs.

(d) Assist and collaborate with states, as needed, in the development of a comprehensive fire-safety educational program and evaluation components.

(e) Facilitate collaborative efforts to compile and disseminate program results through presentations and publications.

(f) Participate with recipient agencies in workshops, training, meetings, and advisory committees to exchange information among the states.

E. Application Content

Use the information in the Program Requirements, Other Requirements, and Evaluation Criteria sections to develop the application content. Your application will be evaluated on the criteria listed, so it is important to follow them in laying out your program plan. The narrative should be no more than 25 double-spaced pages, printed on one side, with one inch margins, and no smaller than 12 point font. Number each page consecutively and provide a complete table of contents. The entire application with appendices should be no longer than 70 pages total. The application must include a one-page abstract and summary of the proposed effort.

F. Submission and Deadline

Application

Submit the original and two copies of PHS 5161-1 (OMB Number 0937-0189). Forms are in the application kit. On or before June 18, 2001, submit the application to the Grants Management Specialist identified in the “Where To Obtain Additional Information” Section of this announcement.

Deadline: Applications shall be considered as meeting the deadline if they are either:

(a) Received on or before the deadline date; or

(b) Sent on or before the deadline date and received in time for submission to the independent objective review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Need (15 percent)

The extent to which the applicant provides background information about the fire injury morbidity and mortality problem in the state and presents data justifying the need for the program using epidemiologic and local data.

The extent to which the applicant provides a detailed description of the efforts in their state, both recent past and present, that have, or currently are, being implemented to address the prevention of fires and fire-related injuries.

The extent to which the applicant describes the benefits of developing, implementing, and evaluating the proposed intervention program.

2. Goals, Objectives, and Methods (30 percent)

The extent to which the applicant describes the overall goals and indicates the outcomes expected at the end of the project period.

The extent to which the applicant describes the specific program objectives needed to accomplish each goal. The extent to which the objectives are time-framed, measurable, and achievable.

The extent to which the applicant includes methods and criteria by which they will solicit and select a minimum of two program communities.

The extent to which the applicant provides detailed descriptions (i.e., who, what, how, and when) of the specific activities that will be undertaken to achieve each of the program objectives.

The extent to which the applicant includes a detailed time-line for year one indicating when each activity will occur and the responsible person; and a projected time-line for the second and third years of program activities. Include an organizational chart that shows placement of the program within the agency's organizational system.

The extent to which the applicant provides detailed descriptions of the intervention design, implementation plans, and all methods that will be used in each phase of the intervention(s) in the communities served.

The extent to which the applicant clearly describes the methodology for establishing the magnitude of the problem in the target population and methods to be used in collecting baseline and post-intervention measures.

The extent to which the applicant has the knowledge and documented skills needed to carry out data collection, entry, and management; analyze data and report findings; perform surveillance activities and conduct program evaluation.

3. Evaluation (25 percent)

The extent to which the applicant provides detailed descriptions for evaluation of each program component and for the program overall, including process, impact, and outcome evaluations.

Descriptions should include what data will be used, how it will be evaluated, how it will be collected, who will perform the evaluation including epidemiological analysis, and the time-frame for the evaluation. This should include progress in meeting the objectives and conducting activities during the project period.

The extent to which the applicant provides sample data collection and evaluation instruments.

The extent to which the applicant demonstrates that there will be available staff with the expertise and capacity to perform the proposed evaluation.

4. Collaboration (15 percent)

The extent to which the applicant describes any proposed collaboration with other entities, such as, municipal departments, injury control research centers, professional organizations, local businesses, school systems, parent/teacher organizations, health care providers, fire departments, police, civic organizations, local public officials, and the media.

The extent to which the applicant provides the documented evidence of partnerships and access to local injury data.

The extent to which the applicant provides letters of commitment from each outside entity documenting their willingness, skills, and capacities to fulfil their specific roles and responsibilities.

The extent to which the applicant provides a clear description of the working relationships between the program and its partners.

5. Facilities, Staff, and Resources (15 percent)

The extent to which the applicant demonstrates prior experience in the intervention area and has demonstrated the capacity for conducting and evaluating the proposed injury prevention program.

The extent to which the applicant describes the facilities and resources that are available for this program.

The extent to which the applicant describes proposed staffing, and includes job descriptions and curriculum vitae indicating the applicant's ability to carry out the objectives of the program. Descriptions should include the position titles, education and experience, capabilities, and the percentage of time each person will devote to the program.

Where applicable, identify a state and/or community program level coordinator(s) who has/have the authority, responsibility, and expertise to conduct and manage the program.

6. Budget and Justification (not scored)

The extent to which the applicant provides a detailed budget and narrative justification consistent with the stated objectives and planned program activities.

H. Other Requirements

Technical Reporting Requirements

Provide CDC with original plus two copies of

1. semiannual progress reports;

2. financial status report, 90 days after the end of the budget period; and

3. final financial status and performance reports, no more than 90 days after the end of the project period.

Send all reports to the Grants Management Specialist identified in the “Where To Obtain Additional Information” Section of this announcement.

The following additional requirements are applicable to this program. For a complete description of each, see Attachment I in the application kit.

AR-7 Executive Order 12372 Review

AR-9 Paperwork Reduction Act Requirements

AR-10 Smoke-Free Workplace Requirements

AR-11 Healthy People 2010

AR-12 Lobbying Restrictions

AR-13 Prohibition on Use of CDC Funds for Certain Gun Control Activities

I. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

J. Where To Obtain Additional Information

This and other CDC announcements can be found on the CDC home page on the Internet: http://www.cdc.gov. Click on “Funding” then “Grants and Cooperative Agreements.”

This announcement and forms may be downloaded from the CDC Web Site. If you cannot download the needed information you may receive additional written information and an application kit, by calling 1-888-GRANTS4 (1-888-472-6874). You will be asked to leave your name and address and will be instructed to identify the Announcement number of interest.

Please refer to Program Announcement 01076 when making your request. If you have questions after reviewing the content of all documents, business management and assistance may be obtained from: Angela Webb, Grants Management Specialist, Grants Management Branch, Procurement and Grants Office, Announcement 01076, Centers for Disease Control and Prevention (CDC), 2920 Brandywine Road, Suite 3000, Atlanta, GA 30341-4146, Telephone (770) 488-2784, Email address awebb@cdc.gov.

For program technical assistance, contact: Mark Jackson, R.S., National Center for Injury Prevention and Control, Centers for Disease Control and Prevention 4770 Buford Highway, NE, Mailstop K63, Atlanta, GA 30341-3724, Telephone (770) 488-4754, E-mail address: mcj4@cdc.gov.

Dated: April 17, 2001.
John L. Williams,
Director, Procurement and Grants Office, Centers for Disease Control and Prevention.

[FR Doc. 01-9929 Filed 4-20-01; 8:45 am]

BILLING CODE 4163-18-P